NATIONAL TRANSPORTATION SAFETY BOARD

Sunshine Act Meeting

AGENDA

TIME AND DATE: 9:30 a.m., Tuesday, March 13, 2018

PLACE: NTSB Conference Center, 429 L'Enfant Plaza SW, Washington, DC 20594.

STATUS: The one item is open to the public.

MATTERS TO BE CONSIDERED:

56526 Railroad Accident Brief—Collision of Two Southwestern Railroad Freight Trains, Roswell, New Mexico, April 28, 2015.

NEWS MEDIA CONTACT: Telephone: (202) 314-6100.

The press and public may enter the NTSB Conference Center one hour prior to the meeting for set up and seating.

Individuals requesting specific accommodations should contact Rochelle McCallister at (202) 314-6305 or by email at Rochelle.McCallister@ntsb.gov by Wednesday, March 7, 2018. The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Terry Williams at (202) 314-6100 or by email at terry.williams@ntsb.gov.

Dated: Friday, February 16, 2018.
LaSean McCray,
Assistant Federal Register Liaison Officer.

[FR Doc. 2018-03625 Filed 2-16-18; 4:15 pm]

BILLING CODE 7533-01-P